DEPARTMENT OF JUSTICE

National Institute of Corrections

Advisory Board; Notice of Meeting

This notice announces a forthcoming virtual meeting of the National Institute of Corrections (NIC) Advisory Board. The meeting will be open to the public.

Name of the Committee: NIC Advisory Board.

General Function of the Committee: To aid the National Institute of Corrections in developing long-range plans, advise on program development, and recommend guidance to assist NIC's efforts in the areas of training, technical assistance, information services, and policy/program development assistance to Federal, state, and local corrections agencies.

Date and Time: 11:00 a.m.-1:30 p.m. on Friday, June 19, 2020 (approximate).

Location: Virtual Platform.

Contact Person: Susan Walters, Executive Assistant, National Institute of Corrections, 320 First Street NW, Room 901-3, Washington, DC 20534. To contact Ms. Walters, please call (202) 353-4213.

Agenda: On Friday, June 19, 2020, the Advisory Board will receive a brief Agency Report from the NIC Acting Director, with time for questions and planning for subsequent FY20-FY21 Advisory Board meeting(s).

Procedure: On June 19, 2020, the meeting is open to the public. Interested persons may present data, information, or views, orally or in writing, on issues pending before the committee. Written submissions may be made to the contact person on or before June 8, 2020. Oral presentations from the public will be scheduled between approximately 1:00 p.m. to 1:15 p.m. on June 19, 2020. Time allotted for each presentation may be limited. Those desiring to make formal oral presentations should notify the contact person and submit a brief statement of the general nature of the evidence or arguments they wish to present, the names and addresses of proposed participants, and an indication of the approximate time requested to make their presentation on or before June 8, 2020.

General Information: NIC welcomes the attendance of the public at its advisory committee meetings and will make every effort to accommodate persons with physical disabilities or special needs. If you require special accommodations due to a disability, please contact Susan Walters at least 7 days in advance of the meeting. Notice of this meeting is given under the Federal Advisory Committee Act (5 U.S.C. app. 2).

Shaina Vanek,
Acting Director, National Institute of Corrections.

[FR Doc. 2020-11051 Filed 5-21-20; 8:45 am]

BILLING CODE 4410-36-P